DEPARTMENT OF VETERANS AFFAIRS

Advisory Committee on Homeless Veterans, Notice of Meeting, Amended

The Department of Veterans Affairs (VA) gives notice under the Federal Advisory Committee Act that a meeting of the Advisory Committee on Homeless Veterans will be held on December 1, 2017. On December 1, the Committee will meet via conference call at 1-800-767-1750; Access Code: 53308# from 2:00 p.m.-5:00 p.m. (EST) and via Adobe Connect at http://va-eerc-ees.adobeconnect.com/acvh/. The meeting will be open to the public.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

The agenda will include briefings from officials at VA regarding services for homeless Veterans and a discussion regarding VA budgetary support to homeless programs.

No time will be allocated at this meeting for receiving oral presentations from the public. Interested parties should provide written comments on issues affecting homeless Veterans for review by the Committee to Mr. Anthony Love, Designated Federal Officer, VHA Homeless Programs Office (10NC1), Department of Veterans Affairs, 811 Vermont Ave. NW., Washington, DC 20571 or via email at Anthony.Love@va.gov.

Members of the public who wish to attend may call-in, using the following number: 1-800-767-1750; Access Code: 53308# and via Adobe Connect at http://va-eerc-ees.adobeconnect.com/acvh/. Attendees who require reasonable accommodation should contact Charles Selby and Alexandra Logsdon of the Veterans Health Administration, Homeless Programs Office no later than November 17, 2017, at Charles.Selby@va.gov (202) 632-8593 or Alexandra.Logsdon@va.gov (202)-632-7146 and describe the type of accommodation needed.

Dated: November 20, 2017.
Jelessa M. Burney,
Federal Advisory Committee Management Officer.

[FR Doc. 2017-25442 Filed 11-22-17; 8:45 am]

BILLING CODE 8320-01-P